SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before January 12, 2026.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Shauniece.carter@sba.gov; (202) 205-6536, or from www.reginfo.gov/public/do/PRAMain.

SUPPLEMENTARY INFORMATION: SBA Form 912 is used to collect basic identifying information needed to make character and eligibility determinations with respect to applicants and borrowers for monetary loan assistance or for participation in SBA loan programs during servicing of the disaster loan program. The form is being revised to streamline and align with current SBA regulations.

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control No: 3245-0178.

Title: Statement of Personal History.

Description of Respondents: Applicants/Principals/Borrowers participating in SBA programs.

Estimated Annual Responses: 10,000.

Estimated Annual Hour Burden: 2,500.

Shauniece Carter,
Interim Agency Clearance Officer.

[FR Doc. 2025-22498 Filed 12-10-25; 8:45 am]

BILLING CODE 8026-09-P